DEPARTMENT OF COMMERCE

National Oceanic and Atmospheric Administration

[RTID 0648-XF549]

Caribbean Fishery Management Council's Scientific and Statistical Committee; Public Virtual Meeting

AGENCY: National Marine Fisheries Service (NMFS), National Oceanic and Atmospheric Administration (NOAA), Commerce.

ACTION: Notice of a public virtual meeting.

SUMMARY: The Caribbean Fishery Management Council's (Council) Scientific and Statistical Committee (SSC) will hold 3-day virtual meeting to address the items contained in the tentative agenda included in the SUPPLEMENTARY INFORMATION.

DATES: The SSC public virtual meeting will be held on April 8, 2026, from 1 p.m. to 5 p.m. Atlantic Standard Time (AST), April 9, 2026, from 1 p.m. to 5 p.m. AST, and April 10, 2026, from 1 p.m. to 5 p.m. AST.

ADDRESSES: You may join the SSC public virtual meeting via Zoom from a computer or smartphone by entering the following address: https://us02web.zoom.us/j/87993466049?pwd=5bvhG3ATeIVRjmTYREbW44fhGIFouD.1.

Meeting ID: 879 9346 6049.

Passcode: 314088.

One tap mobile: +16892781000,,87993466049#,,,,*314088# US.

Dial by your location:

+1 669 900 9128 US (San Jose)

+1 301 715 8592 US (Washington DC)

+1 646 558 8656 US (New York)

+1 787 966 7727 Puerto Rico

+1 939 945 0244 Puerto Rico

Meeting ID: 879 9346 6049.

Passcode: 314088.

Find your local number: https://us02web.zoom.us/u/kbSF3HMCmJ.

In case of problems with ZOOM, please join the meeting via GoToMeeting by entering the following address: https://meet.goto.com/768055309.

You can also dial in using your phone. Access Code: 768-055-309; United States: +1 (571) 757-317-3122.

Join from a video-conferencing room or system. Meeting ID: 768-055-309.

Dial in or type: 67.217.95.2 or inroomlink.goto.com.

Or dial directly: 768055309@67.217.95.2 or 67.217.95.2##768055309.

Get the app now and be ready when your first meeting starts: https://meet.goto.com/install.

FOR FURTHER INFORMATION CONTACT: Graciela García-Moliner, Caribbean Fishery Management Council, 270 Muñoz Rivera Avenue, Suite 401, San Juan, Puerto Rico 00918-1903, telephone: (787) 766-5926.

SUPPLEMENTARY INFORMATION: The following items included in the tentative agenda will be discussed:

April 8, 2026

1 p.m.-1:30 p.m.

—Call to Order

—Roll Call

—Approval of the April 9-11, 2024 and September 23-25, 2025 Minutes

—Adoption of Agenda

1:30 p.m.-3 p.m.

—SEDAR 84 Caribbean Stoplight Parrotfish St. Croix: Final Review—Adyan Ríos, Caribbean Branch Southeast Fisheries Science Center (SEFSC), NOAA Fisheries

3 p.m.-3:15 p.m.

Break

3:15 p.m.-5 p.m.

—SEDAR 84 Caribbean Yellowtail Snapper St. Thomas/St. John: Final Review—Adyan Ríos, Caribbean Branch SEFSC, NOAA Fisheries

5 p.m.

Adjourn for the day

April 9, 2026

1 p.m.-1:30 p.m.

—SEDAR 84 Caribbean Yellowtail Snapper St. Thomas/St. John—Adyan Ríos, Caribbean Branch SEFSC, NOAA Fisheries (cont.)

1:30 p.m.-3 p.m.

—SEDAR 84 Caribbean Yellowtail Snapper Puerto Rico: Final Review—Adyan Ríos, Caribbean Branch SEFSC, NOAA Fisheries

3 p.m.-3:15 p.m.

Break

3:15 p.m.-5 p.m.

—SSC Final Recommendations to CFMC on SEDAR 84

5 p.m.

Adjourn for the day

April 10, 2026

1 p.m.-3 p.m.

—SEDAR 91 U. S. Caribbean Spiny Lobster Puerto Rico Assessment: Final Review—Adyan Ríos, Caribbean Branch SEFSC, NOAA Fisheries

3 p.m.-3:15 p.m.

Break

3:15 p.m.-4:30 p.m.

—SSC Final Recommendations to the CFMC on SEDAR 91 Spiny Lobster Puerto Rico

4:30 p.m.-5 p.m.

—SEDAR 103 Update—Liajay Rivera García, CFMC

—Other Business

—Next Meeting

—Adjourn

The order of business may be adjusted as necessary to accommodate the completion of agenda items. The meeting will begin on April 8, 2026, at 1 p.m. AST, and will end on April 10, 2026, at 5 p.m. AST. Other than the start time, interested parties should be aware that discussions may start earlier or later than indicated, at the discretion of the Chair. In addition, the meeting may be completed prior to the date established in this notice.

Special Accommodations

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: February 19, 2026.
Becky J. Curtis,
Acting Deputy Director, Office of Sustainable Fisheries, National Marine Fisheries Service.

[FR Doc. 2026-03641 Filed 2-23-26; 8:45 am]

BILLING CODE 3510-22-P